DEPARTMENT OF THE INTERIOR

Bureau of Indian Affairs

[234A2100DD/AAKC001030/A0A501010.999900253G]

Indian Gaming; Approval of Tribal-State Class III Gaming Compact in the State of Washington

AGENCY: Bureau of Indian Affairs, Interior.

ACTION: Notice.

SUMMARY: This notice publishes the approval of the Memorandum of Incorporation of Most Favored Nation Amendments to the Tribal State Compact (Amendment) between the Kalispel Indian Community of the Kalispel Reservation (Tribe) and the State of Washington (State).

DATES: The Amendment takes effect on June 14, 2023.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment replaces Section III(O) with language to clearly establish which individuals will be allowed to carry firearms within the gaming facility, such as law enforcement, or other individuals authorized by the Tribe's ordinances and that the Tribe will maintain a list of all authorized persons. It also adds language regarding tort liability for negligent use of firearms. The Amendment adds Appendix T, Technical Requirements Governing the Gaming Data Environment and adds Appendix W, Rules Governing Wide Area Progressives. The Amendment is approved.

Bryan Newland,
Assistant Secretary—Indian Affairs.

[FR Doc. 2023-12681 Filed 6-13-23; 8:45 am]

BILLING CODE 4337-15-P